DEPARTMENT OF THE INTERIOR

Bureau of Land Management, Alaska

[AK-962-1410-HY-P]

Notice for Publication; F-14870-A; Alaska Native Claims Selection

In accordance with Departmental regulation 43 CFR 2650.7(d), notice is hereby given that the decision to issue conveyance (DIC) to Kaktovik Inupiat Corporation, notice of which was published in the Federal Register, Volume 66, Number 11, Pages 4038 and 4039, on January 17, 2001, is hereby modified in part.

Notice of the modified decision will be published once a week, for four (4) consecutive weeks, in the Arctic Sounder. Copies of the modified decision may be obtained by contacting the Alaska State Office of the Bureau of Land Management, 222 West Seventh Avenue, #13, Anchorage, Alaska 99513-7599 ((907) 271-5960).

Any party claiming a property interest which is adversely affected by the decision, an agency of the Federal government or regional corporation, shall have until April 6, 2001 to file an appeal. However, parties receiving service by certified mail shall have 30 days from the date of receipt to file an appeal. Appeals must be filed in the Bureau of Land Management at the address identified above, where the requirements for filing an appeal may be obtained. Parties who do not file an appeal in accordance with the requirements of 43 CFR Part 4, Subpart E, shall be deemed to have waived their rights.

Except as modified, the decision, notice of which was given January 17, 2001, is final.

Ronald E. Royer,
Land Law Examiner, Branch of ANCSA Adjudication.

[FR Doc. 01-5475 Filed 3-6-01; 8:45 am]

BILLING CODE 4310-$$-U